DEPARTMENT OF HOUSING AND URBAN DEVELOPMENT

[Docket No. FR-4901-N-13]

Federal Property Suitable as Facilities To Assist the Homeless

AGENCY: Office of the Assistant Secretary for Community Planning Development, HUD.

ACTION: Notice.

SUMMARY: This notice identifies unutilized, underutilized, excess, and surplus Federal property reviewed by HUD for suitability for possible use to assist the homeless.

FOR FURTHER INFORMATION CONTACT: Kathy Barruss, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Steward B. McKinney Homeless Assistance Act (42 U.S.C. 11411), as amended, HUD is publishing this Notice to identify Federal buildings and other real property that HUD has reviewed for suitability afor use to assist the homeless. The properties were reviewed using information provided to HUD by Federal landholding agencies regarding unutilized and underutilized buildings and real property controlled by such agencies or by GSA regarding its inventory of excess or surplus Federal property. This notice is also published in order to comply with the December 12, 1988, Court Order in National Coalition for the Homeless v. Veterans Administration, No. 88-2503-0G (D.D.C.).

Properties reviewed are listed in this notice according to the following categories: Suitable/available, suitable/unavailable, suitable/to be excess, and unsuitable. The properties listed in the three suitable categories have been reviewed by the landholding agencies, and each agency has transmitted to HUD: (1) its intention to make the property available for use to assist the homeless, (2) its intention to declare the property excess to the agency's needs, or (3) a statement of the reasons that the property cannot be declared excess or made available for use as facilities to assist the homeless.

Properties listed as suitable/available will be available exclusively for homeless use for a period of 60 days from the date of this notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a notice showing it as either suitable/available or suitable/unavailable.

For properties listed as suitable/unavailable, the landholding agency has decided that the property cannot be declared excess or made available for use to assist the homeless, and the property will not be available.

Properties listed as unsuitable will not be made available for any other purpose for 20 days from the date of this notice. Homeless assistance providers interested in a review by HUD of the determination of unsuitability should call the toll free information line at 1-800-927-7588 for detailed instructions or write a letter to Kathy Burruss at the address listed at the beginning of this notice. Included in the request for review should be the property address (including ZIP Code), the date of publication in the Federal Register, the landholding agency, and the property number.

For more information regarding particular properties identified in this notice (i.e., acreage, floor plan, existing sanitary facilities, exact street address), providers should contact the appropriate landholding agencies at the following addresses: Energy: Mr. Tom Knox, Department of Energy, Office of Engineering & Construction Management, CR-80, Washington, DC 20585; (202) 586-8715; GSA: Mr. Brian K. Polly, Assistant Commissioner, General Services Administration, Office of Property Disposal, 18th and F Streets, NW., Washington, DC 20405; (202) 501-0052; Navy: Mr. Charles C. Cocks, Director, Department of the Navy, Real Estate Policy Division, Naval Facilities Engineering Command, Washington Navy Yard, 1322 Patterson Ave., SE., Suite 1000, Washington, DC 20374-5065; (202) 685-9200; (these are not toll-free numbers).

Dated: March 18, 2004.
Mark R. Johnston,
Acting Director, Office of Special Needs Assistance Programs.

Title V, Federal Surplus Property Program Federal Register Report for 3/26/2004

Suitable/Available Properties

Buildings (by State)

California

Facility #29

Fleet ASW Training Center

Point Loma Co: CA

Landholding Agency: Navy

Property Number: 77200410033

Status: Excess

Comment: Metal bldg. most recent use—storage, off-site use only

Minnesota

Lakes Project Office

307 Main Street East

Remer Co: Cass MN

Landholding Agency: GSA

Property Number: 54200410015

Status: Surplus

Comment: Office bldg/oil shed/maintenance garage, minor water damage

GSA Number: 5-D-MN-548-A

Summary of Suitable/Available Properties

Total number of Properties = 2

Suitable/Unavailable Properties

Buildings (by State)

California

SSA Building

1230 12th Street

Modesto Co: CA 95354

Landholding Agency: GSA

Property Number: 54200330003

Status: Surplus

Comment: Republish: GSA status change to UNAVAILABLE. 11,957 sq. ft., needs repair, presence of asbestos/lead paint, most recent use—office

GSA Number: 9-G-CA-1610

Indiana

Soc. Sec. Admin. Ofc.

327 West Marion

Elkhart Co: IN

Landholding Agency: GSA

Property Number: 54200310016

Status: Surplus

Comment: Republish: GSA status change to UNAVAILABLE. 6600 sq. ft., most recent use—office

GSA Number: 1-G-IN-596

Iowa

23 Buildings

Former Naval Housing

Waverly Co: Bremer IA 50677

Landholding Agency: GSA

Property Number: 54200340006

Status: Surplus

Comment: Republish: GSA status change to UNAVAILABLE. 2 to 3 bedroom homes, 864 to 1760 sq. ft., presence of asbestos/lead paint

GSA Number: 7-I-IA-0463-5

Louisiana

SSA Baton Rouge Dist. Ofc.

350 Donmoor Avenue

Baton Rouge Co: LA 70806

Landholding Agency: GSA

Property Number: 54200330005

Status: Surplus

Comment: Republish: GSA status change to UNAVAILABLE. 9456 sq. ft., most recent use—office

GSA Number: 7-G-LA-0567

Michigan

Detroit Job Corp Center

10401 E. Jefferson

1265 St. Clair

Detroit Co: Wayne MI

Landholding Agency: GSA

Property Number: 54200230012

Status: Surplus

Comment: Republish: GSA status change to UNAVAILABLE. Parcel One = 80,590 sq. ft. bldg., needs repair, presence of asbestos; Parcel Two = 5140 sq. ft. bldg.

GSA Number: 2-L-MI-757

Nevada

Young Fed Bldg/Courthouse

300 Booth Street

Reno Co: NV 89502

Landholding Agency: GSA

Property Number: 54200330006

Status: Surplus

Comment: Republish: GSA status change to UNAVAILABLE. 133, 439 sq. ft. (85,637 sq. ft. available), presence of asbestos/lead paint.

GSA Number: 9-G-NV-529

Suitable/Unavailable Properties

Land (by State)

New Mexico

H Marker Facility

Roswell Co: Chaves NM 88201

Landholding Agency: GSA

Property Number: 54200330011

Status: Surplus

Comment: Republish: GSA status change to UNAVAILABLE. 12.398 acres, subject to existing easements

GSA Number: 7-U-NM-0587

Utah

0.5 acres

2968 W. Alice Way

West Valley Co: Salt Lake UT 84119

Landholding Agency: GSA

Property Number: 54200340004

Status: Excess

Comment: Republish: GSA status change to UNAVAILABLE. paved

GSA Number: 7-U-UT-0515

Unsuitable Properties

Buildings (by State)

California

Bldg. 26

Fleet ASW Training Center

San Diego Co: CA

Landholding Agency: Navy

Property Number: 77200410034

Status: Excess

Reason: Secured Area

Bldgs. 64, 65, 66

Fleet Combat Training Center

San Diego Co: CA

Landholding Agency: Navy

Property Number: 77200410035

Status: Excess

Reason: Secured Area

Bldgs. 2537, 2538

Marine Corps Base

Camp Pendleton Co: CA 92055

Landholding Agency: Navy

Property Number: 77200410037

Status: Excess

Reason: Extensive deterioration

Bldg. 18416

Marine Corps Base

Camp Pendleton Co: CA 92055

Landholding Agency: Navy

Property Number: 77200410038

Status: Excess

Reason: Extensive deterioration

Bldg. 33439

Marine Corps Base

Camp Pendleton Co: CA 92055-

Landholding Agency: Navy

Property Number: 77200410039

Status: Excess

Reason: Extensive deterioration

Bldg. 43299

Marine Corps Base

Camp Pendleton Co: CA 92055-

Landholding Agency: Navy

Property Number: 77200410040

Status: Excess

Reason: Extensive deterioration

Georgia

Bldg. 80

Naval Air Station

Marietta Co: Cobb GA 30060-

Landholding Agency: Navy

Property Number: 77200410036

Status: Excess

Reasons: Within 2000 ft. of flammable or explosive material; Secured Area; Extensive deterioration

Guam

Bldg. 464

Naval Forces

Marianas Co: Waterfront GU

Landholding Agency: Navy

Property Number: 77200410041

Status: Excess

Reason: Extensive deterioration

Idaho

Bldgs. Tan 603, Tan 608

Idaho Natl Eng & Env Lab

Scoville Co: Butte ID 83415-

Landholding Agency: Energy

Property Number: 41200410030

Status: Excess

Reason: Secured Area

Bldg. Tan 624

Idaho Natl Eng & Env Lab

Scoville Co: Butte ID 83415-

Landholding Agency: Energy

Property Number: 41200410031

Status: Excess

Reason: Secured Area

Bldgs. Tan 630, Tan 633

Idaho Natl Eng & Env Lab

Scoville Co: Butte ID 83415-

Landholding Agency: Energy

Property Number: 41200410032

Status: Excess

Reason: Secured Area

Bldgs. Tan 649, Tan 650

Idaho Natl Eng & Env Lab

Scoville Co: Butte ID 83415-

Landholding Agency: Energy

Property Number: 41200410033

Status: Excess

Reason: Secured Area

Bldg. Tan 694

Idaho Natl Eng & Env Lab

Scoville Co: Butte ID 83415-

Landholding Agency: Energy

Property Number: 41200410034

Status: Excess

Reason: Secured Area

Bldg. Tan 719

Idaho Natl Eng & Env Lab

Scoville Co: Butte ID 83415-

Landholding Agency: Energy

Property Number: 41200410035

Status: Excess

Reason: Secured Area

Bldgs. Tan 725, Tan 726

Idaho Natl Eng & Env Lab

Scoville Co: Butte ID 83415-

Landholding Agency: Energy

Property Number: 41200410036

Status: Excess

Reason: Secured Area

New Mexico

Bldgs. 870C & 9830

Kirtland AFB

Albuquerque Co: Bernalillo NM 87185-

Landholding Agency: Energy

Property Number: 41200410037

Status: Excess

Reason: Secured Area

[FR Doc. 04-6559 Filed 3-25-04; 8:45 am]

BILLING CODE 4210-29-M